DEPARTMENT OF THE TREASURY

Office of Foreign Assets Control

Sanctions Actions Pursuant to Executive Order 13664

AGENCY: Office of Foreign Assets Control, Treasury.

ACTION: Notice.

SUMMARY: The Treasury Department's Office of Foreign Assets Control (OFAC) is publishing the names of 2 persons whose property and interests in property are blocked pursuant to Executive Order (E.O.) 13664.

DATES: OFAC's actions described in this notice were effective September 18, 2014.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On September 18, 2014, OFAC blocked the property and interests in property of the following 2 persons pursuant to E.O. 13664, “Blocking Property of Certain Persons With Respect to South Sudan”:

Individuals

1. CHUOL, James Koang (a.k.a. CHOL, James Koang; a.k.a. CHUAL, James Koang; a.k.a. RANLEY, James Koang Chol; a.k.a. RANLEY, Koang Chuol); DOB 1961; Passport R00012098 (South Sudan); Major General (individual) [SOUTH SUDAN].

2. WOL, Santino Deng (a.k.a. KUOL, Santino Deng; a.k.a. WUOL, Santino Deng); DOB 09 Nov 1962; Major General; SPLA Third Division Commander (individual) [SOUTH SUDAN].

Dated: September 18, 2014.
John E. Smith,
Acting Director, Office of Foreign Assets Control.

[FR Doc. 2014-24056 Filed 10-8-14; 8:45 am]

BILLING CODE 4810-AL-P